DEPARTMENT OF THE INTEROR

Fish and Wildlife Service

50 CFR Part 32

[Docket No. FWS-R9-NSR-2011-0038; 93270-1265-0000-4A]

RIN 1018-AX54

2011-2012 Refuge-Specific Hunting and Sport Fishing Regulations; Correction

AGENCY: Fish and Wildlife Service, Interior.

ACTION: Final rule; correction.

SUMMARY: We, the Fish and Wildlife Service, published a final rule in the Federal Register on September 9, 2011, revising our regulations concerning hunting and sport fishing programs at national wildlife refuges. Inadvertently we made some errors in our amendatory instructions. With this technical correction, we correct those errors.

DATES: Effective September 26, 2011.

FOR FURTHER INFORMATION CONTACT: Leslie Marler (703) 358-2397.

SUPPLEMENTARY INFORMATION: We published a final rule in the Federal Register on September 9, 2011 (76 FR 56054), to finalize our yearly updates to the Code of Federal Regulations (CFR) at 50 CFR part 32 concerning hunting and sport fishing programs at national wildlife refuges. The final rule added refuges to the list of areas open for hunting and/or sport fishing programs, and increased the activities available at other refuges. We also developed pertinent refuge-specific regulations for those activities, and amended certain regulations on other refuges that pertain to migratory game bird hunting, upland game hunting, big game hunting, and sport fishing for the 2011-2012 season. Inadvertently, this final rule contained errors. This document corrects the final regulations by revising 50 CFR part 32.

This document corrects instructions given at amendatory instruction 30f. for Trinity River National Wildlife Refuge in the State of Texas, which printed at page 56086. Amendment 30f. reads, in part: “* * * redesignate * * * C.2 and C.3 as paragraphs C.3 and C.4.* * *.” However, this is an error, because a paragraph “C.4” currently exists in the “Trinity River National Wildlife Refuge” regulations, and that paragraph should have been removed.

PART 32—[AMENDED]

Accordingly, in FR Doc. 2011-22752 appearing on page 56064 in the Federal Register of Friday, September 9, 2011, the following correction is made:

§ 32.63 [Amended]

On page 56086, in the second column, amendment 30.f amending § 32.63 is corrected to read, “Revising paragraphs B.1., B2., and B.4. through B.8, adding paragraph B.9., and revising paragraph C.1., redesignating paragraphs C.2. and C.3. as paragraphs C.3. and C.4., adding new paragraph C.2., and removing paragraphs C.4. through C.6. under Trinity River National Wildlife Refuge.”

Dated: September 20, 2011.
Sara Prigan,
Federal Register Liaison.

[FR Doc. 2011-24498 Filed 9-23-11; 8:45 am]

BILLING CODE 4310-55-P